COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a service to the Procurement List that will be provided by nonprofit agency employing persons who are blind or have other severe disabilities, and deletes a product and services from the Procurement List previously furnished by such agencies.

DATES: Date added to the Procurement List: December 27, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Addition

On 9/22/2017 (82 FR, No. 183), the Committee for Purchase From People Who Are Blind or Severely Disabled published notice of proposed addition to the Procurement List.

After consideration of the material presented to it concerning capability of qualified nonprofit agency to provide the service and impact of the additions on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing a small entity to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Custodial Service

Mandatory for: USDA Forest Service, Bridger-Teton National Forest Supervisor's Office, Jackson Ranger District & Teton Interagency Helibase, Jackson, WY

Mandatory Source of Supply: Development Workshop, Inc., Idaho Falls, ID

Contracting Activity: USDA FOREST SERVICE

Deletions

On 10/10/2017 (82 FR, No. 194) and 10/20/2017 (82 FR, No. 202), the Committee for Purchase From People Who Are Blind or Severely Disabled published notices of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

Product

NSN—Product Name: 8470-00-NSH-0031—Center Mounted Weapon Harness

Mandatory Source of Supply: Employment Source, Inc., Fayetteville, NC

Contracting Activity: Army Contracting Command—Aberdeen Proving Ground, Natick Contracting Division, Natick, MA

Services

Service Type: Mail and Messenger Service

Mandatory for: Naval Facilities Engineering Command (NAVFAC) Southern Division, Charleston, SC

Mandatory Source of Supply: Goodwill Industries of Lower South Carolina, Inc., North Charleston, SC

Contracting Activity: DEPT OF THE NAVY, NAVY FACILITIES ENGINEERING COMMAND

Service Type: Janitorial/Custodial Service

Mandatory for: GSA, Parking Facilities Spring and Pearl Streets, Columbus, OH

Mandatory Source of Supply: VGS, Inc., Cleveland, OH

Contracting Activity: PUBLIC BUILDINGS SERVICE, ACQUISITION MANAGEMENT DIVISION

Patricia Briscoe,
Deputy Director, Business Operations, (Pricing and Information Management)

[FR Doc. 2017-25544 Filed 11-24-17; 8:45 am]

BILLING CODE 6353-01-P